NUCLEAR REGULATORY COMMISSION

[Docket No. 50-156; NRC-2010-0203]

University of Wisconsin, University of Wisconsin Nuclear Reactor; Notice of Issuance of Environmental Assessment and Finding of No Significant Impact; Correction

AGENCY: Nuclear Regulatory Commission.

ACTION: Notice of Issuance; Correction.

SUMMARY: This document corrects a notice appearing in the Federal Register on September 16, 2010 (75 FR 56597), which informed the public that the U.S. Nuclear Regulatory Commission is considering issuance of a renewed Facility License No. R-74 for the University of Wisconsin which would authorize continued operation of the University of Wisconsin Nuclear Reactor. This action is necessary to add supplemental documentation and to correct dose equivalent values.

FOR FURTHER INFORMATION CONTACT: Geoffrey A. Wertz, Office of Nuclear Reactor Regulation, U.S. Nuclear Regulatory Commission, Washington, DC 20555-0001; telephone 301-415-0893, e-mail: Geoffrey.Wertz@nrc.gov.

SUPPLEMENTARY INFORMATION: On page 56599, appearing in the third column, first paragraph under Environmental Effects of Accidents, add to the end of the sentence “, and as supplemented on February 8, 2011 (ADAMS Accession No. ML110410534).” Also appearing in the third column, next to the last sentence under Environmental Effects of Accidents, the dose equivalent values are being corrected to incorporate the supplemental information received to read from “The maximum dose to a worker in confinement for 5 minutes would be 1.35 rem total effective dose equivalent, 35.8 rem committed dose equivalent to the thyroid gland, and 278 millirem effective dose equivalent” to “The maximum dose to a worker in confinement for 5 minutes would be 0.145 rem total effective dose equivalent, 3.67 rem committed dose equivalent to the thyroid gland, and 34.6 millirem effective dose equivalent.”

Dated at Rockville, Maryland, this 8th day of March 2011.
For the Nuclear Regulatory Commission.
Jessie Quichocho,
Chief, Research and Test Reactors Licensing Branch, Division of Policy and Rulemaking, Office of Nuclear Reactor Regulation.

[FR Doc. 2011-6127 Filed 3-15-11; 8:45 am]

BILLING CODE 7590-01-P